DEPARTMENT OF THE INTERIOR

Bureau of Land Management

[CA-340-07-1610]

Notice of Availability of Record of Decision for the Ukiah Resource Management Plan

AGENCY: Bureau of Land Management, Interior.

ACTION: Notice of availability.

SUMMARY: In accordance with the National Environmental Policy Act (NEPA), the Federal Land Policy and Management Act (FLPMA), and the Bureau of Land Management (BLM) policies, the BLM announces the availability of the ROD and approved Ukiah Resource Management Plan for lands and resources administered by its Ukiah Field Office. The California State Director has signed the ROD, making the RMP effective immediately.

ADDRESSES: Copies of the ROD and RMP are available upon request from the Environmental Coordinator, Ukiah Field Office, Bureau of Land Management, 2550 N. State Street, Ukiah, California or via the Internet at http://www.ca.blm.gov/ukiah.

FOR FURTHER INFORMATION CONTACT: Jonna Hildenbrand, (707) 468-4000.

SUPPLEMENTARY INFORMATION: The Ukiah RMP provides direction for managing the approximate 270,000 acres of BLM-managed surface acres and 214,000 additional subsurface acres (mineral estate) in northern California. The geographic area includes all BLM-managed public lands within the counties of Marin, Solano, Sonoma, Mendocino (south of the City of Willits), Lake, Napa, Yolo, Colusa, and Glenn. Planning for the Ukiah RMP officially began with a Federal Register notice on June 21, 2004 initiating scoping. BLM sought Tribal, public, and governmental participation in the development of this RMP and will continue to pursue partnerships in the management of the public lands. The approved RMP is essentially the same as the Proposed RMP in the Final Environmental Impact Statement (FEIS) published in June 2006. The decisions designating routes of travel for motorized vehicles are an implementation decisions and are appealable under 43 CFR part 4. These decisions are contained in Appendix A of the RMP. Any party adversely affected by the proposed route designations may appeal within 30 days of publication of this Notice of Availability. The appeal should state the specific route(s), as identified in Appendix A of the RMP, on which the decision is being appealed. The appeal must be filed with the Ukiah Field Manager at the above listed address. The BLM received no protests to the Proposed RMP/FEIS.

No inconsistencies with State or local plans, policies or programs were identified during the Governor's consistency review of the proposed RMP/FEIS.

Dated: October 20, 2006.
Rich Burns,
Ukiah Field Office Manager.

[FR Doc. E6-22170 Filed 12-26-06; 8:45 am]

BILLING CODE 4310-40-P